ENVIRONMENTAL PROTECTION AGENCY

40 CFR Parts 141 and 142

[FRL-6715-3]

Reopening of Comment Period on Revisions to the Interim Enhanced Surface Water Treatment Rule (IESWTR), the Stage 1 Disinfectants and Disinfection Byproducts Rule (Stage 1 DBPR) and Revisions to State Primacy Requirements to Implement the Safe Drinking Water Act (SDWA) Amendments

AGENCY: Environmental Protection Agency (EPA).

ACTION: Proposed rule, notice of reopening of comment period.

SUMMARY: EPA is reopening the comment period for the proposed rule revising the Interim Enhanced Surface Water Treatment Rule (IESWTR), the Stage 1 Disinfectant and Disinfection Byproducts Rule (Stage 1 DBPR), and the Primacy Rule which was published in the Federal Register April 14, 2000 (65 FR 20314). The reopening of the comment period will allow all interested parties to submit written comments on the proposal.

DATES: Written comments must be received by July 13, 2000.

ADDRESSES: Send written comments to the Comment Clerk, docket number W-99-11, Water Docket (MC 4101), U.S. Environmental Protection Agency, 401 M Street, SW., Washington, DC 20460. The record for this proposed rule is established under docket number W-99-11. The record is available for inspection from 9 a.m. to 4 p.m. Monday through Friday, excluding legal holidays at the Water Docket, East Tower Basement, US EPA, 401 M Street, SW., Washington DC. For access to docket materials, please call 202-260-3027 to schedule an appointment. Comments may be hand-delivered to the Water Docket, U.S. Environmental Protection Agency; 401 M Street SW., East Tower Basement, Washington, DC 20460. Comments may be submitted electronically to ow-docket@epamail.epa.gov. No facsimiles (faxes) will be accepted. See SUPPLEMENTARY INFORMATION section for further details about comment submission.

FOR FURTHER INFORMATION CONTACT: Jennifer Melch, Implementation and Assistance Division, Office of Ground Water and Drinking Water (MC-4606), U.S. Environmental Protection Agency, 401 M Street, SW., Washington DC 20460, (202) 260-7035. Information may also be obtained from the EPA Safe Drinking Water Hotline. Callers within the United States may reach the Hotline at (800) 426-4791. The Hotline is open Monday through Friday, excluding Federal holidays, from 9:00 a.m. to 5:30 p.m. EST.

SUPPLEMENTARY INFORMATION: The reopened comment period for the proposed rulemaking now ends July 13, 2000. All comments submitted in accordance with the instructions in the Notice of Proposed Rulemaking will be considered and incorporated into the Record.

Additional Information for Commenters

Please submit an original and three copies of your comments and enclosures (including references). Comments must be received by July 13, 2000.

Commenters who want EPA to acknowledge receipt of their comments should enclose a self-addressed, stamped envelope. Electronic comments must be submitted as a WP5/6/7/8 file or an ASCII File, avoiding the use of special characters and form and encryption. Electronic comments must be identified by the docket number W-99-11.

Dated: June 8, 2000.
J. Charles Fox,
Assistant Administrator, Office of Water.

[FR Doc. 00-14885 Filed 6-12-00; 8:45 am]

BILLING CODE 6560-50-P